DEPARTMENT OF HEALTH AND HUMAN SERVICES

Solicitation of Written Comments on the Draft National Adult Immunization Plan

AGENCY: National Vaccine Program Office, Office of the Assistant Secretary for Health, Office of the Secretary, Department of Health and Human Services.

ACTION: Notice.

SUMMARY: The National Vaccine Advisory Committee (NVAC) was established in 1987 to comply with Title XXI of the Public Health Service Act (Pub. L. 99-660) (§ 2105) (42 U.S. Code 300aa-5 (PDF—78 KB)). Its purpose is to advise and make recommendations to the Director of the National Vaccine Program on matters related to program responsibilities. The Assistant Secretary for Health (ASH) has been designated by the Secretary of Health and Human Services (HHS) as the Director of the National Vaccine Program. The National Vaccine Program Office (NVPO) is located within the Office of the Assistant Secretary for Health (OASH), Office of the Secretary, U.S. Department of Health and Human Services (HHS). NVPO provides leadership and fosters collaboration among the various federal agencies involved in vaccine and immunization activities. The NVPO also supports the National Vaccine Advisory Committee (NVAC). The NVAC advises and makes recommendations to the ASH in his capacity as the Director of National Vaccine Program on matters related to vaccine program responsibilities.

Adult vaccination rates remain low in the United States, and significant racial and ethnic disparities exist. In 2011, NVAC recommended the development of a strategic plan with the goal of improving adult immunization.

Through an environmental scan of past reports issued by vaccine stakeholders, a survey, several focus groups, and in-depth interviews with subject matter experts, and in consultation with federal partners, NVPO has developed the draft National Adult Immunization Plan (NAIP). The NAIP details background on the immunization landscape and provides a strategic plan for federal and nonfederal stakeholders.

NVPO is soliciting public comment on the draft NAIP from a variety of stakeholders, including the general public, for consideration as they develop their final report to the Secretary. It is anticipated that the draft NAIP, as revised with consideration given to public comment and stakeholder input, will be presented to the Secretary in the first quarter of 2015.

DATES: Comments for consideration by NVPO should be received no later than 5:00 p.m. EDT on March 9, 2015.

ADDRESSES: (1) The draft NAIP is available on the web at http://www.hhs.gov/nvpo/.

(2) Electronic responses are preferred and may be addressed to: Rebecca.Fish@hhs.gov.

(3) Written responses should be addressed to: National Vaccine Program Office, U.S. Department of Health and Human Services, 200 Independence Avenue SW., Room 733G, Washington, DC 20201. Attn: HHS Adult Immunization c/o Rebecca Fish.

FOR FURTHER INFORMATION CONTACT: Rebecca Fish, National Vaccine Program Office, Office of the Assistant Secretary for Health, Department of Health and Human Services; telephone (202) 260-9283; fax (202) 260-1165; email: Rebecca.Fish@hhs.gov.

SUPPLEMENTARY INFORMATION:

I. Background

Vaccination is one of the most important public health achievements of the 20th century. Vaccines save lives and improve the quality of life by reducing the transmission of infectious diseases. However, the benefits of vaccination are not realized equally across the U.S. population. Adult vaccination rates remain low in the United States and far below Healthy People 2020 targets. In an average year, 95 percent of the approximately 20,000 to 50,000 Americans who die as a result of vaccine-preventable disease are adults, depending on the severity of annual influenza outbreaks. Substantial racial and ethnic disparities also exist.

The National Vaccine Plan (NVP), released in 2010, provides a guiding vision for vaccination in the United States for the decade 2010-2020. While the NVP serves as a roadmap for protecting all U.S. residents from vaccine-preventable diseases, historically low vaccination rates in the adult population and unique attributes of the adult vaccination delivery system highlight the need for focused attention on adult vaccination.

The NAIP is a five year national plan with an emphasis on coordination and prioritization of what federal and non-federal partners can accomplish together. Given this time frame, the NAIP will be informed by emerging science and changing circumstances. The NAIP also aims to leverage the unique opportunity presented by the passage and ongoing implementation of the Affordable Care Act.

Through their analysis and discussion, NVPO identified four major goals:

Goal 1: Strengthen the adult immunization infrastructure

Goal 2: Improve access to adult vaccines

Goal 3: Increase community demand for adult immunizations

Goal 4: Foster innovation in adult vaccine development and vaccination related technologies

Within each goal, the NAIP details measurable objectives and sub-objectives.

II. Request for Comment

NVPO requests input on the draft report and draft recommendations. In addition to general comments on the draft NAIP, NVPO is seeking input on efforts or barriers to adult immunizations not represented in the report where HHS efforts could advance adult immunization efforts. Please limit your comments to six (6) pages.

III. Potential Responders

HHS invites input from a broad range of stakeholders including individuals and organizations that have interests in adult immunization efforts and the role of HHS in advancing those efforts.

Examples of potential responders include, but are not limited to, the following:

—general public;

—advocacy groups, non-profit organizations, and public interest organizations;

—academics, professional societies, and healthcare organizations;

—public health officials and immunization program managers;

—provider groups including all physician and non-physician providers that administer immunization services to adults, including pharmacists; and

—representatives from the private sector.

When responding, please self-identify with any of the above or other categories (include all that apply) and your name. Anonymous submissions will not be considered. Written submissions should not exceed six (6) pages. Please do not send proprietary, commercial, financial, business, confidential, trade secret, or personal information.

Dated: January 27, 2015.
Bruce Gellin,
Deputy Assistant Secretary for Health, Director, National Vaccine Program Office, Executive Secretary, National Vaccine Advisory Committee.

[FR Doc. 2015-02481 Filed 2-5-15; 8:45 am]

BILLING CODE 4150-44-P